NATIONAL AERONAUTICS AND SPACE ADMINSTRATION

[Notice (05-007)]

NASA Robotic and Human Exploration of Mars Strategic Roadmap Committee; Meeting

AGENCY: National Aeronautics and Space Administration (NASA).

ACTION: Notice of meeting.

SUMMARY: In accordance with the Federal Advisory Committee Act, Public Law 92-463, as amended, the National Aeronautics and Space Administration announces a meeting of the NASA Robotic and Human Exploration of Mars Strategic Roadmap Committee.

DATES: Tuesday, February 8, 2005, 8 a.m. to 5 p.m., Wednesday, February 9, 2005, 8 a.m. to 5 p.m., Thursday, February 10, 2005, 8 a.m. to 3 p.m.

ADDRESSES: Carnegie Institution, second floor, 1530 P Street, NW., Washington, DC 20005.

FOR FURTHER INFORMATION CONTACT: Dr. Michael Meyer, 202-358-0307.

SUPPLEMENTARY INFORMATION: The meeting will be open to the public up to the seating capacity of the meeting room. Attendees will be requested to sign a register. The agenda for the meeting is as follows:

—Introductory remarks and review of agenda.

—Key capability drivers for Mars exploration: Roadmap sub-team reports and discussion.

—Invited Study Reports and Discussion.

—Action item group reports and discussion.

—Roadmap integration plans (optional).

—Synthesis of Mars exploration roadmap and pathways.

—Actions and writing assignments.

—Plans for roadmap committee interactions and next meeting.

It is imperative that the meeting be held on this date to accommodate the scheduling priorities of the key participants.

Dated: January 18, 2005.
P. Diane Rausch,
Advisory Committee Management Officer, National Aeronautics and Space Administration.

[FR Doc. 05-1300 Filed 1-24-05; 8:45 am]

BILLING CODE 7510-13-P